DEPARTMENT OF EDUCATION

List of Correspondence From April 1, 2013, Through June 30, 2013

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Jessica Spataro or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Jessica Spataro or Mary Louise Dirrigl at (202) 245-7605.

SUPPLEMENTARY INFORMATION: The following list identifies correspondence from the Department issued from April 1, 2013, through June 30, 2013. Under section 607(f) of the IDEA, the Secretary is required to publish this list quarterly in the Federal Register. The list includes those letters that contain interpretations of the requirements of the IDEA and its implementing regulations, and it may also include letters and other documents that the Department believes will assist the public in understanding the requirements of the law. The list identifies the date and topic of each letter, and it provides summary information, as appropriate. To protect the privacy interests of the individual or individuals involved, personally identifiable information has been redacted, as appropriate.

Part B—Assistance for Education of All Children With Disabilities

Section 614—Evaluations, Eligibility Determinations, Individualized Education Programs, and Educational Placements

Topic Addressed: Individualized Education Programs

○ Letter dated May 21, 2013, to New England Juvenile Defender Center President Christopher Northrop, regarding parent participation at individualized education program (IEP) team meetings.

○ Dear Colleague Letter dated June 19, 2013, regarding the requirements in Part B of the IDEA to provide braille instruction for children who are blind or visually impaired.

Section 615—Procedural Safeguards

Topic Addressed: Discipline Procedures

○ Letter dated April 2, 2013, to Utah State Director of Special Education Glenna Gallo, regarding the requirements in Part B of the IDEA that apply to functional behavioral assessments.

Part C—Infants and Toddlers With Disabilities

Section 636—Individulaized Family Service Plan

Topic Addressed: Natural Environments

○ Letter dated April 18, 2013, to Utah Provider Consortium Chairperson Marsha Johnson, regarding the meaning of community settings for purposes of meeting the natural environments requirement in Part C of the IDEA.

Section 639—Procedural Safeguards

Topic Addressed: Confidentiality of Records

○ Letter dated May 8, 2013, to North Texas Rehabilitation Center Early Childhood Intervention Program Director Charlcie Flinn, regarding the confidentiality requirements that apply to early intervention records of infants and toddlers with disabilities in Part C of the IDEA and the Family Educational Rights and Privacy Act.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 6, 2014.
Michael K. Yudin,
Acting Assistant Secretary for Special Education and Rehabilitative Services.

[FR Doc. 2014-00171 Filed 1-8-14; 8:45 am]

BILLING CODE 4000-01-P